DEPARTMENT OF AGRICULTURE

Forest Service

Madera County Resource Advisory Committee

AGENCY: Forest Service, USDA.

ACTION: Notice of meeting.

SUMMARY: The Madera County Resource Advisory Committee will be meeting in North Fork, California on August l8th and on September 15th. The purpose of these meetings will be to make decisions on how to accept and review project proposals for the next funding cycle as authorized under the Secure Rural Schools and Community Self-Determination Act of 2000 (Pub. L. 110-343) for expenditure of Payments to States Madera County Title II funds.

DATES: The meetings will be held on August 18th, 2010 from 6:30 p.m. to 8:30 p.m. in North Fork, CA and September 15th, 2010 from 6:30 p.m. to 8:30 p.m. in North Fork, CA.

ADDRESSES: The meetings will be held at the Bass Lake Ranger District, 57003 Road 225, North Fork, California, 93643. Send written comments to Julie Roberts, Madera County Resource Advisory Committee Coordinator, c/o Sierra National Forest, Bass Lake Ranger District, at the above address, or electronically to jaroberts@fs.fed.us.

FOR FURTHER INFORMATION CONTACT: Julie Roberts, Madera County Resource Advisory Committee Coordinator, (559) 877-2218 ext. 3159.

SUPPLEMENTARY INFORMATION: The meetings are open to the public. Committee discussion is limited to Forest Service staff and Committee members. However, persons who wish to bring Payments to States Madera County Title II project matters to the attention of the Committee may file written statements with the Committee staff before or after the meetings. Agenda items to be covered include: (1) Discussion of group priorities for types of projects, (2) Application Process, (3) discuss conditions and parameters for accepting future proposals, (4) Key dates and timelines.

Dated: August 9, 2010.
Dave Martin,
District Ranger.

[FR Doc. 2010-20022 Filed 8-17-10; 8:45 am]

BILLING CODE 3410-11-M